DEPARTMENT OF HEALTH AND HUMAN SERVICES

Indian Health Service

Agency Information Collection Activities: Proposed Collection; Comment Request

AGENCY: Indian Health Service (IHS).

ACTION: Request for Public Comment: 60-day notice; proposed collection: stakeholder satisfaction with IHS tribal consultation.

SUMMARY: In compliance with Section 3506(c)(2)(A) of the Paperwork Reduction Act of 1995, to provide a 60-day advance opportunity for public comment on a proposed information collection project, the Indian Health Service (IHS) is publishing for comment a summary of a proposed information collection to be submitted to the Office of Management and Budget (OMB) for review.

Proposed Collection

A voluntary survey will be conducted of elected leaders representing federally recognized tribes, and any board member or executive director authorized to represent a tribal organization or an urban Indian health program to assess the level of customer (stakeholder) satisfaction with the agency's tribal consultation process.

Title: Stakeholder Satisfaction with IHS Tribal Consultation.

Type of Information Collection Request: New collection.

Form Number(s): None.

Need and Use of Information Collection: The information gathered will be used by agency management and staff to establish baseline data, to identify strengths and weaknesses in the current consultation process, to assess how well the processes for consultation are working, to make improvements that are practical and feasible, and to provide feedback to local tribal officials, health boards, tribal organizations, urban Indian health programs and community members regarding stakeholder satisfaction with the agency's tribal consultation process.

Frequency: Annually.

Affected Public: Individuals, not-for-profit institutions, State, Local, or Tribal Governments.

Number of Respondents: 605.

Annual Number of Responses per Respondent: 1.

Total Annual Responses: 605.

Average Burden per response: 20 minutes.

Total Annual Hours Requested: 202 hours.

There are no Capital Costs, Operating Costs and/or Maintenance Costs to report for this collection of information.

Request for Comments

Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Further Information

Send your written comments, requests for more information on the proposed collection, or requests to obtain a copy of the data collection instrument(s) and instructions to: Mr. Lance Hodahkwen, Sr., M.P.H., IHS Reports Clearance Officer, 12300 Twinbrook Parkway, Suite 450, Rockville, MD 20852-1601 or call non-toll free (301) 443-5938, send via facsimile to (301) 443-2316, or send your e-mail requests, comments, and return address to: lhodahkw@hqe.ihs.gov.

Comment Due Date

Your comments regarding this information collection are best assured of having their full effect if received on or before December 17, 2001.

Dated: October 10, 2001.
Michael H. Trujillo,
Assistant Surgeon General Director, Indian Health Service.

[FR Doc. 01-26063 Filed 10-16-01; 8:45 am]

BILLING CODE 4160-16-M